DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Cooperative Charting Programs.

Form Number(s): None.

OMB Approval Number: 0648-0022.

Type of Request: Regular submission.

Burden Hours: 4,400.

Number of Respondents: 1,025.

Average Hours per Response: Chart updating Excel form, 3 hours; website reporting, 2 hours.

Needs and Uses: In accordance with 33 U.S.C Sections 883a and b, NOAA's National Ocean Service (NOS) produces the official nautical charts of the United States. U.S. Coast Guard Auxiliary members report observations of changes that require additions, corrections, or revisions to nautical charts on the NOAA Form 77-5. The U.S. Power Squadrons use a website to report the same information. The information provided is used by NOS cartographers to maintain and prepare new editions of nautical charts that are used nationwide by commercial and recreational navigators.

Affected Public: Individuals or households.

Frequency: On occasion.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at: dHynek@doc.gov).

Written comments and recommendations for the proposed information collection should be sent within 30 days of publication of this notice to David Rostker, OMB Desk Officer, fax number (202) 395-7285, or David_Rostker@omb.eop.gov.

Dated: March 19, 2008.
Gwellnar Banks,
Management Analyst, Office of the Chief Information Officer.

[FR Doc. E8-5874 Filed 3-21-08; 8:45 am]

BILLING CODE 3510-JS-P